DEPARTMENT OF HOMELAND SECURITY

Coast Guard

33 CFR Part 117

[Docket No. USCG-2010-0199]

Drawbridge Operation Regulations; Passaic River, Clifton, NJ, Maintenance

AGENCY: Coast Guard, DHS.

ACTION: Notice of temporary deviation from regulations.

SUMMARY: The Commander, First Coast Guard District, has issued a temporary deviation from the regulation governing the operation of the Route 3 Bridge across the Passaic River, mile 11.8, at Clifton, New Jersey. This deviation allows the bridge to remain in the closed position to protect public safety during bridge maintenance.

DATES: This deviation is effective from May 1, 2010 through October 27, 2010.

ADDRESSES: Documents mentioned in this preamble as being available in the docket are part of docket USCG-2010-0199 and are available online at http://www.regulations.gov, inserting USCG-2010-0199 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Ms. Judy Leung-Yee, Project Officer, First Coast Guard District, telephone (212) 668-7165. If you have questions on viewing the docket, call Renee V. Wright, Program Manager, Docket Operations, telephone 202-366-9826.

SUPPLEMENTARY INFORMATION: The Route 3 Bridge has a vertical clearance of 35 feet at mean high water, and 40 feet at mean low water in the closed position. The existing drawbridge operating regulations listed at 33 CFR 117.739(n), require the bridge to open on signal after at least a 24 hour advance notice is given by calling the number posted at the bridge.

The Route 3 Bridge is in poor condition and will be replaced as soon as possible with a new fixed highway bridge on a different alignment. Because the Route 3 Bridge is in poor condition and poses a hazard to public safety, maintenance must be performed before it is replaced.

A submarine utility communication cable is presently located on the proposed alignment of the new replacement bridge and will need to be temporarily relocated during the construction of the new Route 3 highway bridge.

The best alternative and least disruptive impact to the environment is to temporarily relocate the communication cable to the underside of the existing Route 3 Bridge. As a result of that temporary installation of the communication cable the existing Route 3 Bridge will not be able to be opened for vessel traffic.

The route 3 Bridge has not received a request to open since 1998.

Once the new bridge construction is completed and the new bridge is opened for vehicular traffic the old existing Route 3 Bridge will be removed.

Vessels able to pass under the closed draw may do so at any time. Waterway users were advised of the requested bridge closure and offered no objection.

In accordance with 33 CFR 117.35(e), the bridge must return to its regular operating schedule immediately at the end of the designated time period. This deviation from the operating regulations is authorized under 33 CFR 117.35.

Dated: April 13, 2010.
Gary Kassof,
Bridge Program Manager, First Coast Guard District.

[FR Doc. 2010-9335 Filed 4-21-10; 8:45 am]

BILLING CODE 9110-04-P